DEPARTMENT OF ENERGY

Federal Energy Regulatory Commission

Combine Notice of Filings #1

August 31, 2007.

Take notice that the Commission received the following electric rate filings:

Docket Numbers: ER97-2801-019, ER99-2156-012, ER96-719-018.

Applicants: PacifiCorp; Cordova energy Company LLC; MidAmerican Energy Company.

Description: PacifiCorp et al. submits a notice of change in status under Market-Based Rate Authority filing in compliance with Order 697l.

Filed Date: 08/27/2007.

Accession Number: 20070829-0051.

Comment Date: 5 p.m. Eastern Time on Monday, September 17, 2007.

Docket Numbers: ER02-1762-005, ER06-1272-003.

Applicants: Reliant Energy Solutions East, LLC; Reliant Energy Power Supply, LLC.

Description: Reliant Energy Solutions East, LLC et al. submits a notice of change in status in accordance with Order 652.

Filed Date: 08/29/2007.

Accession Number: 20070831-0009.

Comment Date: 5 p.m. Eastern Time on Wednesday, September 19, 2007.

Docket Numbers: ER04-925-018.

Applicants: Merrill Lynch Commodities, Inc.

Description: Merrill Lynch Commodities, Inc submits Notice of Non-Material Change in Status pursuant to the Commission's Order 652.

Filed Date: 08/29/2007.

Accession Number: 20070830-0007.

Comment Date: 5 p.m. Eastern Time on Wednesday, September 19, 2007.

Docket Numbers: ER06-1420-003.

Applicants: Midwest Independent Transmission System Operator, Inc.

Description: Midwest ISO, Inc submits a response to Commission's letter order of 3/06/07 seeking additional information re Transmission & Deliverability Studies etc. under ER06-1420.

Filed Date: 08/27/2007.

Accession Number: 20070829-0055.

Comment Date: 5 p.m. Eastern Time on Monday, September 17, 2007.

Docket Numbers: ER07-944-001.

Applicants: Florida Power & Light Company.

Description: Florida Power & Light Company submits its compliance filing.

Filed Date: 08/24/2007.

Accession Number: 20070829-0042.

Comment Date: 5 p.m. Eastern Time on Friday, September 14, 2007.

Docket Numbers: ER07-1036-001.

Applicants: PJM Interconnection, LLC.

Description: PJM Interconnection LLC submits its responses to FERC's request for additional information that identified certain deficiencies in the submitted filing of 6/14/07.

Filed Date: 08/29/2007.

Accession Number: 20070831-0021.

Comment Date: 5 p.m. Eastern Time on Wednesday, September 19, 2007.

Docket Numbers: ER07-1070-001.

Applicants: Florida Power & Light Company.

Description: Florida Power & Light Company re-files the Agreement for Generator Balancing Service with New Hope Power Partnership dated 6/21/07 etc. in compliance with FERC's 8/20/07 letter order.

Filed Date: 08/29/2007.

Accession Number: 20070830-0011.

Comment Date: 5 p.m. Eastern Time on Wednesday, September 19, 2007.

Docket Numbers: ER07-1147-001.

Applicants: American Electric Power Service Corporation.

Description: American Electric Power Service Corp agent for Indiana Michigan Power Co. submits an amendment to Original Sheet No.1 of the LA2 to provide the correct designation w/Michigan Electric Transmission Co., LLC.

Filed Date: 08/29/2007.

Accession Number: 20070830-0010.

Comment Date: 5 p.m. Eastern Time on Wednesday, September 19, 2007.

Docket Numbers: ER07-1157-001.

Applicants: Logan Wind Energy LLC.

Description: Logan Wind Energy LLC submits Substitute Original Sheet 2 et al. to FERC Electric Tariff, Original Volume No.1, to be effective 7/19/07.

Filed Date: 08/22/2007.

Accession Number: 20070823-0085.

Comment Date: 5 p.m. Eastern Time on Wednesday, September 12, 2007.

Docket Numbers: ER07-1179-001.

Applicants: Pacific Gas and Electric Company.

Description: Pacific Gas and Electric Company submits an errata to its 7/20/07 filing of Large Facilities Agreement and two Small Facilities Agreement with the City and County of San Francisco.

Filed Date: 08/29/2007.

Accession Number: 20070830-0008.

Comment Date: 5 p.m. Eastern Time on Friday, September 7, 2007.

Docket Numbers: ER07-1299-000.

Applicants: PJM Interconnection, LLC.

Description: PJM Interconnection, LLC submits an executed interconnection service agreement with Savage Mountain Wind Force LLC .

Filed Date: 08/22/2007.

Accession Number: 20070823-0086.

Comment Date: 5 p.m. Eastern Time on Wednesday, September 12, 2007.

Docket Numbers: ER07-1301-000, ER07-1301-001.

Applicants: Elwood Energy, LLC.

Description: Elwood Energy LLC submits its Rate Schedule FERC 2, its revenue requirement for Reactive Supply and Voltage Control from Generation Sources Service and 8/29 an amended copy of the original filing.

Filed Date: 08/24/2007.

Accession Number: 20070827-0030.

Comment Date: 5 p.m. Eastern Time on Friday, September 14, 2007.

Docket Numbers: ER07-1302-000.

Applicants: American Electric Power Service Corporation.

Description: The American Electric Power Service Corp agent for Kentucky Power Company et al. submits an amended and restated interconnection agreement with E.ON U.S. Services Inc.

Filed Date: 08/24/2007.

Accession Number: 20070829-0040.

Comment Date: 5 p.m. Eastern Time on Friday, September 14, 2007.

Docket Numbers: ER07-1303-000.

Applicants: PS Energy Group, Inc.

Description: PS Energy Group Inc submits petition for acceptance of initial tariff, waivers and blanket authority & requests acceptance of FERC Electric Tariff, Original Volume 1.

Filed Date: 08/24/2007.

Accession Number: 20070829-0044.

Comment Date: 5 p.m. Eastern Time on Friday, September 14, 2007.

Docket Numbers: ER07-1304-000; Er07-805-002.

Applicants: California Independent System Operator Corporation CAISO-WECC Billing Services Agreement.

Description: The California Independent System Operator Corp submits the Billing Services Agreement with Western Electricity Coordinating Council in compliance with FERC's Order issued on 6/25/07.

Filed Date: 08/24/2007.

Accession Number: 20070829-0045.

Comment Date: 5 p.m. Eastern Time on Friday, September 14, 2007.

Docket Numbers: ER07-1305-000.

Applicants: Port Washington Generating Station, LLC.

Description: Port Washington Generating Station, LLC submits a Power Purchase Agreement providing Sales of Test Power with Wisconsin Electric Power Co.

Filed Date: 08/27/2007.

Accession Number: 20070828-0177.

Comment Date: 5 p.m. Eastern Time on Monday, September 17, 2007.

Docket Numbers: ER07-1306-000.

Applicants: NedPower Mount Storm, LLC.

Description: NedPower Mount Storm LLC submits FERC Electric Tariff, Original Volume 1.

Filed Date: 08/27/2007.

Accession Number: 20070828-0176.

Comment Date: 5 p.m. Eastern Time on Monday, September 17, 2007.

Docket Numbers: ER07-1307-000.

Applicants: American Electric Power Service Corporation.

Description: The American Electric Power Service Corp on behalf of AEP Operating Companies requests acceptance of the First Revised Interconnection and Local Delivery Service Agreement with Town of Avilla, Indiana.

Filed Date: 08/27/2007.

Accession Number: 20070828-0178.

Comment Date: 5 p.m. Eastern Time on Monday, September 17, 2007.

Docket Numbers: ER07-1308-000.

Applicants: Sierra Pacific Resources Operating Company.

Description: Nevada Power Co and Sierra Pacific Power Co submit a filing to modify their Open Access Transmission Tariff Schedule 10 Loss Compensation Service.

Filed Date: 08/29/2007.

Accession Number: 20070830-0026.

Comment Date: 5 p.m. Eastern Time on Wednesday, September 19, 2007.

Docket Numbers: ER07-1309-000.

Applicants: Dynegy Oakland, LLC.

Description: Dynegy Oakland, LLC submits revised tariff sheets to their reliability Must-Run Agreement with California Independent System Operator Corp.

Filed Date: 08/29/2007.

Accession Number: 20070831-0020.

Comment Date: 5 p.m. Eastern Time on Wednesday, September 19, 2007.

Docket Numbers: ER07-1310-000.

Applicants: Southern Company Services, Inc.

Description: Alabama Power Co et al submit information pertaining to Southern Companies' recovery of Post-Retirement Benefits other than Pensions.

Filed Date: 08/29/2007.

Accession Number: 20070831-0016.

Comment Date: 5 p.m. Eastern Time on Wednesday, September 19, 2007.

Docket Numbers: ER07-1312-000.

Applicants: Western Massachusetts Electric Company.

Description: Western Massachusetts Electric Co submits a revised Interconnection and Operations Agreement with Berkshire Power Co, LLC.

Filed Date: 08/29/2007.

Accession Number: 20070831-0011.

Comment Date: 5 p.m. Eastern Time on Wednesday, September 19, 2007.

Take notice that the Commission received the following electric reliability filings:

Docket Numbers: RR07-16-000.

Applicants: North American Electric Reliability Corporation.

Description: North American Electric Reliability submits its 2008 Business Plan and Budget, the 2008 Business Plans and Budgets of Regional Entities.

Filed Date: 08/24/2007.

Accession Number: 20070829-0004.

Comment Date: 5 p.m. Eastern Time on Friday, September 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-17692 Filed 9-6-07; 8:45 am]

BILLING CODE 6717-01-P